DEPARTMENT OF HEALTH AND HUMAN SERVICES

Centers for Disease Control and Prevention

Advisory Committee for Energy-Related Epidemiologic Research: Cancellation of Meeting

This notice announces the cancellation of previously announced meeting.

Federal Notice Citation of Previous Announcement

Federal Register: June 13, 2000 (Volume 65, Number 114) [Notices]—[Page 37153-37154].

Change in the Meeting: This meeting has been cancelled.

CONTACT PERSON FOR MORE INFORMATION: Michael J. Sage, Executive Secretary, ACERER, and Acting Deputy Director, NCEH, CDC, 4770 Buford Highway, NE, (F-28), Atlanta, Georgia 30341-3724, telephone 770/488-7002, fax 770/488-7015.

The Director, Management Analysis and Services Office, has been delegated the authority to sign Federal Register notices pertaining to announcements of meetings and other committee management activities for both CDC and the Agency for Toxic Substances and Disease Registry.

Dated: June 22, 2000.
Carolyn J. Russell,
Director, Management Analysis and Services Office, Centers for Disease Control and Prevention.

[FR Doc. 00-16275 Filed 6-23-00; 10:29 am]

BILLING CODE 4163-18-P